FEDERAL COMMUNICATIONS COMMISSION

[MB Docket No. 02-277, and MM Docket Nos. 01-235, 01-317, and 00-244, FCC 03-127]

2002 Biennial Review of Broadcast Ownership Rules, Cross-Ownership of Broadcast Stations and Newspapers, Multiple Ownership of Radio Broadcast Stations in Local Markets, and Definition of Radio Markets; Information Collection Approval

AGENCY: Federal Communications Commission.

ACTION: Notice.

SUMMARY: The Federal Communications Commission has received Office of Management and Budget (OMB) approval for revised application forms and certain non-form filings associated with the Commission's rules regarding broadcast ownership. Therefore, the Commission announces that OMB 3060-0027 (FCC Form 301), OMB 3060-0031 (FCC Form 314), OMB 3060-0032 (FCC Form 315), and OMB 3060-1040 (certain non-form filings) are effective.

DATES: Effective August 14, 2003.

FOR FURTHER INFORMATION CONTACT: Peter H. Doyle or Nina Shafran, Audio Division, 202-418-2700; Barbara Kreisman or Jim Brown, Video Division, 202-418-1600.

SUPPLEMENTARY INFORMATION: 1. On July 2, 2003, the Federal Communications Commission released the Report and Order in the above-referenced MB/MM dockets revising its broadcast ownership rules (published at 68 FR 46286, August 5, 2003). Certain FCC application forms, amendments that are filed using such forms, and certain non-form filing requirements were revised pursuant to changes adopted in the Report and Order. Pursuant to the “emergency processing” provisions of the Paperwork Reduction Act of 1995 (5 CFR 1320.13), the Commission has received OMB approval of the revisions to the following application forms: Application for Construction Permit for Commercial Broadcast Station, FCC Form 301 (OMB Control No. 3060-0027); Application for Consent to Assignment of Broadcast Station Construction Permit or License, FCC Form 314 (OMB Control No. 3060-0031); and Application for Consent to Transfer Control of Entity Holding Broadcast Station Construction Permit or License, FCC Form 315 (OMB Control No. 3060-0032). In conjunction with its approval of the revised forms, OMB also approved the information collection requirements associated with amendments to applications on Forms 301, 314, and 315 (see OMB Control No. cited above for each form). Accordingly, the revised forms, including amendments that are filed using these forms, are now effective.

2. OMB also approved certain non-form filings as follows: current TV licensees' requests for temporary waiver or extension of an existing waiver, or amendment to a pending waiver request, of the local TV ownership rule, as well as current licensees' filings related to their existing conditional waivers of the previous one-to-a-market cross-ownership rule. Accordingly, the information collections contained in these non-form, waiver-related filings, titled “Broadcast Ownership Rules, R&O in MB Docket No. 02-277 and MM Docket Nos. 01-235, 01-317 and 00-244 (OMB Control No. 3060-1040),” are now effective.

3. Pursuant to the Paperwork Reduction Act of 1995, an agency may not conduct or sponsor a collection of information unless it displays a currently valid OMB control number. Notwithstanding any other provisions of law, no person shall be subject to any penalty for failing to comply with a collection of information subject to the Paperwork Reduction Act that does not display a valid control number. Questions concerning the OMB control numbers and expiration dates should be directed to Les Smith, Federal Communications Commission, (202) 418-0217.

Federal Communications Commission.
Marlene H. Dortch,
Secretary.

[FR Doc. 03-20747 Filed 8-13-03; 8:45 am]

BILLING CODE 6712-01-P